DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency,500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Arizona:
Yavapai (FEMA Docket No.: B-7788) | Town of Prescott Valley (07-09-1850P) | May 22, 2008; May 29, 2008; Prescott Daily Courier | The Honorable Harvey C. Skoog,Mayor, Town of Prescott Valley, 7501 East Civic Circle,Prescott Valley, AZ 86314 | May 9, 2008 | 040121
Yavapai (FEMA Docket No.: B-7788) | Unincorporated areas of Yavapai County (07-09-1850P) | May 22, 2008; May 29, 2008; Prescott Daily Courier | The Honorable Carol Springer,Chairman, Yavapai County Board of Supervisors, 1015 Fair Street,Prescott, AZ 86305 | May 9, 2008 | 040093
Arkansas: Pulaski (FEMA Docket No.: B-7788) | City of North Little Rock (08-06-1262P) | May 17, 2008;May 24, 2008;Arkansas Democrat Gazette | The Honorable Patrick H. Hays,Mayor, City of North Little Rock, 300 Main Street,North Little Rock, AR 72114 | May 6, 2008 | 050182
Arizona: Maricopa (FEMA Docket No.: B-7785) | City of Peoria (07-09-1919P) | May 1, 2008; May 7, 2008; Daily News-Sun | The Honorable Bob Barrett,Mayor, City of Peoria, 8401 West Monroe Street,Peoria, AZ 85345 | September 4, 2008 | 040050
California:
Sacramento (FEMA Docket No.: B-7788) | Unincorporated areas of Sacramento (08-09-0022P) | April 24, 2008; May 1, 2008; Daily Recorder | The Honorable Jimmie Yee,Chairman, Sacramento County Board of Supervisors, 700 H Street, Suite 2450,Sacramento, CA 95814 | August 29, 2008 | 060262
San Diego (FEMA Docket No.: B-7785) | City of Vista (08-09-0596P) | May 1, 2008;May 8, 2008;City of Vista | The Honorable Morris C. Vance,Mayor, City of Vista, 600 Eucalyptus Avenue, Building One,Vista, CA 92084 | September 5, 2008 | 060297
Colorado:
El Paso (FEMA Docket No.: B-7785) | City of Colorado Springs (08-08-0212P) | April 30, 2008; May 7, 2008; El Paso County News | The Honorable Lionel Rivera,Mayor, City of Colorado Springs,P.O. Box 1575,Colorado Springs, CO 80901 | September 4, 2008 | 080060
Summit (FEMA Docket No.: B-7780) | Town of Silverthorne (07-08-0747P) | April 4, 2008; April 11, 2008; Summit County Journal | The Honorable Dave Koop,Mayor, Town of Silverthorne,P.O. Box 1002,Silverthorne, CO 80498 | August 11, 2008 | 080201
Florida:
Polk (FEMA Docket No.: B-7789) | City of Winter Haven (07-04-5629P) | May 7, 2008; May 14, 2008; Polk County Democrat | The Honorable Nathaniel Birdsong,Mayor, City of Winter Haven,P.O. Box 2277,Winter Haven, FL 33883 | September 11, 2008 | 120271
Sarasota (FEMA Docket No.: B-7788) | City of Sarasota (08-04-3096P) | May 16, 2008; May 23, 2008; Herald Tribune | The Honorable Lou Ann Palmer,Mayor, City of Sarasota, 1565 First Street, Room 101,Sarasota, FL 34236 | April 30, 2008 | 125150
Georgia:
Camden (FEMA Docket No.: B-7785) | Unincorporated areas of Camden County (08-04-1081P) | April 18, 2008; April 25, 2008; Tribune & Georgian | The Honorable Preston Rhodes,Chairman, Camden County,Board of Commissioners,P.O. Box 248,White Oak, GA 31568 | August 25, 2008 | 130262
Camden (FEMA Docket No.: B-7785) | City of Kingsland (08-04-1081P) | April 18, 2008; April 25, 2008; Tribune & Georgian | The Honorable Kenneth Smith,Mayor, City of Kingsland,P.O. Box 250,Kingsland, GA 31548 | August 25, 2008 | 130238
Indiana: Lake (FEMA Docket No.: B-7789) | Town of St. John (08-05-1094P) | May 22, 2008; May 29, 2008; Post Tribune | The Honorable Michael S. Fryzel,Mayor, Town of St. John, 10955 West 93rd Avenue,St. John, IN 46373 | May 16, 2008 | 180141
Kentucky: Hardin (FEMA Docket No.: B-7785) | Unincorporated areas of Hardin County (08-04-1717P) | May 2, 2008; May 9, 2008; The News-Enterprise | The Honorable Harry L. Berry,Hardin County Judge,P.O. Box 568,Elizabethtown, KY 42702 | September 8, 2008 | 210094
Minnesota: Anoka (FEMA Docket No.: B-7785) | City of Blaine (07-05-4703P) | May 2, 2008; May 9, 2008; Spring Lake Park Life | The Honorable Thomas Ryan,Mayor, City of Blaine, 10801 Town Square Drive Northeast,Blaine, MN 55449 | September 8, 2008 | 270007
Mississippi: DeSoto (FEMA Docket No.: B-7785) | City of Olive Branch (08-04-0546P) | May 8, 2008; May 15, 2008; DeSoto Times Today | The Honorable Samuel P. Rikard,Mayor, City of Olive Branch, 9200 Pigeon Roost Road,Olive Branch, MS 38654 | April 30, 2008 | 280286
North Carolina:
Mecklenburg (FEMA Docket No.: B-7766) | Mecklenburg County (07-04-6546P) | January 14, 2008; January 21, 2008; The Charlotte Observer | Mr. Harry Jones, Sr.,Mecklenburg County Manager, 600 East Fourth Street,Charlotte, NC 28202 | April 20, 2008 | 370158
Wake (FEMA Docket No.: B-7785) | Town of Cary (07-04-2347P) | April 23, 2008; April 30, 2008; The Cary News | The Honorable Ernest F. McAlister,Mayor, Town of Cary,P.O. Box 8005,Cary, North Carolina 27512-8005 | April 11, 2008 | 370238
Watauga (FEMA Docket No.: B-7785) | Town of Blowing Rock (07-04-6273P) | April 24, 2008; May 1, 2008; The Blowing Rocket | The Honorable James B. Lawrence,Mayor, Town of Blowing Rock,P.O. Box 47,Blowing Rock, North Carolina 27605 | April 15, 2008 | 370252
New York: Erie (FEMA Docket No.: B-7776) | Town of Lancaster (07-02-0974P) | March 7, 2008; March 14, 2008; Buffalo News | The Honorable Robert H. Giza,Supervisor,Town of Lancaster, 21 Central Avenue,Lancaster, NY 14086 | August 28, 2008 | 360249
Ohio: Warren (FEMA Docket No.: B-7788) | City of Middletown (08-05-0820P) | May 1, 2008; May 8, 2008; Pulse-Journal | The Honorable Larry Mulligan, Jr.,Mayor, City of Middletown,One Donham Plaza,Middletown, OH 45042 | September 5, 2008 | 390040
Pennsylvania:
Lackawanna (FEMA Docket No.: B-7797) | City of Scranton (07-03-0177P) | April 28, 2008; May 5, 2008; The Scranton Times Tribune | The Honorable Christopher A. Doherty,Mayor, City of Scranton, 340 North Washington Avenue,Scranton, PA 18503 | September 2, 2008 | 420538
Lackawanna (FEMA Docket No.: B-7797) | Borough of Taylor (07-03-0177P) | April 28, 2008; May 5, 2008; The Scranton Times Tribune | The Honorable Richard Bowen,Mayor, Borough of Taylor, 122 Union Street,Taylor, PA 18517 | September 2, 2008 | 420539
Tennessee: Knox (FEMA Docket No.: B-7788) | Unincorporated areas of Knox County (08-04-3041P) | May 15, 2008 May 21, 2008 Knoxville News-Sentinel | The Honorable Mike Ragsdale,Mayor, Knox County, 400 Main Street, Suite 615,Knoxville, TN 37902 | April 30, 2008 | 475433
Texas:
Hays (FEMA Docket No.: B-7788) | City of Kyle (08-06-0338P) | May 7, 2008; May 14, 2008; Hays Free Press | The Honorable Miguel Gonzalez,Mayor, City of Kyle, 116 Fall Creek Drive,Kyle, TX 78640 | September 11, 2008 | 481108
Lubbock (FEMA Docket No.: B-7789) | City of Lubbock (08-06-0728P) | May 23, 2008; May 30, 2008; Lubbock Avalanche Journal | The Honorable David A. Miller,Mayor, City of Lubbock,P.O. Box 2000,Lubbock, TX 79457 | May 16, 2008 | 480452
Montgomery (FEMA Docket No.: B-7788) | Unincorporated areas of Montgomery County (07-06-1592P) | May 14, 2008; May 21, 2008; Montgomery County News | The Honorable Alan B. Sadler,Montgomery County Judge, 310 North Thompson Street, Suite 210,Conroe, TX 77301 | May 30, 2008 | 480483
Utah: Salt Lake (FEMA Docket No.: B-7788) | Unincorporated areas of Salt Lake County (08-08-0060P) | May 2, 2008; May 9, 2008; Salt Lake Tribune | The Honorable Peter Corroon,Mayor, Salt Lake County, 2007 South State Street,Salt Lake City, UT 84190-1020 | September 8, 2008 | 490102

(Catalog of Federal Domestic Assistance No. 97.022, “Flood Insurance.”)

Dated: September 29, 2008.
Michael K. Buckley,
Acting Assistant Administrator,Mitigation Directorate,Department of Homeland Security,Federal Emergency Management Agency.

[FR Doc. E8-24082 Filed 10-9-08; 8:45 am]

BILLING CODE 9110-12-P